DEPARTMENT OF TRANSPORTATION

Federal Aviation Administration

14 CFR Part 39

[Docket No. 2001-NM-02-AD; Amendment 39-12514; AD 2001-23-15]

RIN 2120-AA64

Airworthiness Directives; Boeing Model 747 Series Airplanes

AGENCY: Federal Aviation Administration, DOT.

ACTION: Final rule; correction.

SUMMARY: This document corrects information in an existing airworthiness directive (AD) that applies to certain Boeing Model 747 series airplanes. That AD currently requires repetitive detailed visual inspections to find discrepancies of the installation of the midspar fuse pins of the inboard and outboard struts, and follow-on actions, if necessary. That AD also mandates accomplishment of a terminating modification. This document corrects the omission of the phrase “amendment 39-12514” from the first line of the AD. This correction is necessary to ensure that the amendment number is stated at the beginning of the AD.

DATES: Effective December 31, 2001.

The incorporation by reference of Boeing Service Bulletin 747-54A2206, Revision 2, dated May 17, 2001, as listed in the regulations, was approved previously by the Director of the Federal Register as of December 31, 2001 (66 FR 58913, November 26, 2001).

The incorporation by reference of Boeing Service Bulletin 747-54A2206, Revision 1, dated February 22, 2001, as listed in the regulations, was approved previously by the Director of the Federal Register as of March 21, 2001 (66 FR 13424, March 6, 2001).

FOR FURTHER INFORMATION CONTACT: Tamara Anderson, Aerospace Engineer, Airframe Branch, ANM-120S, FAA, Seattle Aircraft Certification Office, 1601 Lind Avenue, SW., Renton, Washington 98055-4056; telephone (425) 227-2771; fax (425) 227-1181.

SUPPLEMENTARY INFORMATION: On November 15, 2001, the Federal Aviation Administration (FAA) issued AD 2001-23-15, amendment 39-12514 (66 FR 58913, November 26, 2001), which applies to certain Boeing Model 747 series airplanes. That AD requires repetitive detailed visual inspections to find discrepancies of the installation of the midspar fuse pins of the inboard and outboard struts, and follow-on actions, if necessary. That AD also provides for an optional terminating modification for the repetitive inspections. The actions required by that AD are intended to find and fix discrepancies of the installation of the midspar fuse pins, which could result in loss of the secondary retention capability of the fuse pins, migration of the fuse pins, and consequent loss of the strut and engine from the airplane.

Need for the Correction

The FAA has determined that a correction to AD 2001-23-15 is necessary. The correction will add the amendment number (amendment 39-12514) to the first line of the AD. That number was inadvertently omitted from the final rule, as published.

Correction of Publication

This document corrects the error and correctly adds the AD as an amendment to section 39.13 of the Federal Aviation Regulations (14 CFR 39.13).

The AD is reprinted in its entirety for the convenience of affected operators. The effective date of the AD remains December 31, 2001.

Since this action only corrects the inadvertent omission of the amendment number from the first line of the AD, it has no adverse economic impact and imposes no additional burden on any person. Therefore, the FAA has determined that notice and public procedures are unnecessary.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. Section 39.13 is amended by correctly adding the following airworthiness directive (AD):

2001-23-15 Boeing: Amendment 39-12514. Docket 2001-NM-02-AD. Supersedes AD 2001-05-05, amendment 39-12141.

Applicability: Model 747 series airplanes, line numbers 1 through 1046 that have accomplished Airworthiness Directives 95-10-16, 95-13-05, 95-13-06, or 95-13-07; and line numbers 1047 through 1271 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c)(1) of this AD. The request should include an assessment of the effect of the modification, alteration, or repair on the unsafe condition addressed by this AD; and, if the unsafe condition has not been eliminated, the request should include specific proposed actions to address it.

Compliance: Required as indicated, unless accomplished previously.

To find and fix discrepancies of the installation of the midspar fuse pins of the inboard and outboard strut, which could result in loss of the secondary retention capability of the fuse pins, migration of the fuse pins, and consequent loss of the strut and engine from the airplane; accomplish the following:

Restatement of the Requirements of AD 2001-05-05

Inspections/Follow-On Actions

(a) At the time specified in paragraph (a)(1) or (a)(2) of this AD, as applicable: Do a detailed visual inspection to find discrepancies (e.g., incorrect thread protrusion, which is less than two threads protruding from the nut between the nut and the secondary retention washer; incorrect gap between the fuse pin primary nut and secondary retention washer; cracked or broken torque stripe) of the installation of the midspar fuse pins of the inboard and outboard struts, per Figure 2 of Boeing Service Bulletin 747-54A2206, Revision 1, dated February 22, 2001, or Revision 2, dated May 17, 2001.

(1) For airplanes having the production equivalent of one of the AD's listed in Table 1 of this AD: Do the inspection at the later of the times specified in paragraphs (a)(1)(i) and (a)(1)(ii) of this AD.

(i) Before the accumulation of 8,000 total flight hours, or within 24 months since manufacture of the airplane, whichever occurs first.

(ii) Within 90 days after March 21, 2001 (the effective date of AD 2001-05-05, amendment 39-12141).

(2) For airplanes modified per one of the AD's listed in Table 1 of this AD: Do the inspection at the later of the times specified in paragraphs (a)(2)(i) and (a)(2)(ii) of this AD. Table 1 follows:

Table 1
AD number | Amendment number
AD 95-10-16 | 39-9233
AD 95-13-05 | 39-9285
AD 95-13-06 | 39-9286
AD 95-13-07 | 39-9287

(i) Within 8,000 flight hours or 24 months after the modification, whichever occurs first.

(ii) Within 90 days after March 21, 2001.

Note 2: Where there are differences between the AD and the service bulletin, the AD prevails.

Note 3: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(A) If no discrepancy is found: Repeat the inspection at intervals not to exceed 8,000 flight hours or 24 months, whichever occurs first, until you do the terminating modification specified in paragraph (b) of this AD.

(B) If any discrepancy is found, and the primary nut has backed off and contacts the secondary retention washer: Before further flight, do the terminating modification specified in paragraph (b) of this AD.

(C) If any discrepancy is found, and the primary nut does not contact the secondary retention washer: Repeat the inspection at intervals not to exceed 90 days. Within 18 months after the initial finding, or before March 21, 2001, whichever occurs later, do the terminating modification specified in paragraph (b) of this AD.

Note 4: Inspections done prior to the effective date of this AD per Boeing Alert Service Bulletin 747-54A2206, dated October 19, 2000, are acceptable for compliance with the inspections required by paragraph (a) of this AD.

New Requirements of this AD

Terminating Action

(b) Within 6 years after the effective date of this AD: Do the terminating modification (replacement of the primary nut of the midspar fuse pin, installation of torque strip, a detailed visual inspection of the fuse pin threads for damage, and replacement, if necessary) per Figure 3 of Boeing Service Bulletin 747-54A2206, Revision 1, dated February 22, 2001, or Figure 3 of Boeing Service Bulletin 747-54A2206, Revision 2, dated May 17, 2001. Doing this modification ends the repetitive inspections required by this AD.

Note 5: Doing the terminating modification prior to the effective date of this AD per Boeing Alert Service Bulletin 747-54A2206, dated October 19, 2000, is acceptable for compliance with the terminating action required by paragraph (b) of this AD.

Alternative Methods of Compliance

(c)(1) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

(2) Any alternative method of compliance which was approved previously in accordance with AD 2001-05-05 is approved for compliance with this AD.

Note 6: Information concerning the existence of approved alternative methods of compliance with this AD, if any, may be obtained from the Seattle ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with Boeing Service Bulletin 747-54A2206, Revision 1, dated February 22, 2001; or Boeing Service Bulletin 747-54A2206, Revision 2, dated May 17, 2001.

(1) The incorporation by reference of Boeing Service Bulletin 747-54A2206, Revision 2, dated May 17, 2001, was approved previously by the Director of the Federal Register, as of December 31, 2001 (66 FR 58913, November 26, 2001).

(2) The incorporation by reference of Boeing Service Bulletin 747-54A2206, Revision 1, dated February 22, 2001, was approved previously by the Director of the Federal Register as of March 21, 2001 (66 FR 13424, March 6, 2001).

(3) Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(f) This amendment becomes effective on December 31, 2001.

Issued in Renton, Washington, on December 20, 2001.
Ali Bahrami,
Acting Manager,Transport Airplane Directorate, Aircraft Certification Service.

[FR Doc. 02-84 Filed 1-3-02; 8:45 am]

BILLING CODE 4910-13-U